DEPARTMENT OF DEFENSE

Department of the Army

Notice of Prospective Grant of Exclusive Patent License

AGENCY: U.S. Army Soldier and Biological Chemical Command, Army, Dod.

ACTION: Notice.

SUMMARY: In accordance with the provisions of 35 U.S.C. 209(c)(1) and 37 CFR 404.7(a)(1)(i), SBCCOM hereby gives notice that it is contemplating the grant of an exclusive license in the United States to practice the below referenced inventions owned by the U.S. Government to Purified Micro Environments, having a place of business in Miami, Florida.

Title: Transportable Glovebox and Fumehood.

Inventors: Charles E. Henry, Monica J. Heyl, Dennis J. Reutter

A self-contained and transportable apparatus that can be used for physical examination of unknown materials of possible toxic or harmful nature for analytical screening and classification. The apparatus is designed to be flexible in its configuration so that it can run as a chemical fume safety cabinet or even as a class II biological safety cabinet if the results of tests run therein indicate that alternative configurations are optimal for additional operations.

Title: Glovebox and Filtration System for Mobile Van.

Inventors: Charles E. Henry, Monica J. Heyl, Dennis J. Reutter

A self-contained and transportable apparatus that can be used for physical examination of unknown materials of possible toxic or harmful nature for analytical screening and classification. The apparatus of this invention is designed for use in a mobile van that can be driven to an incident site or parked during an event where such capability may be needed.

FOR FURTHER INFORMATION CONTACT: Mr. Roy Albert, Technology Transfer Office, U.S. Army SBCCOM, ATTN: AMSSB-RAS-C, 5183 Blackhawk Road (Bldg E3330/245), APG, MD 21010-5423, Phone: (410) 436-4438 or E-mail: rcalbert@sbccom.apgea.army.mil

SUPPLEMENTARY INFORMATION: The prospective exclusive license will be royalty bearing and will comply with the terms and conditions of 35 U.S.C. 209 and 37 CFR 404.7. The prospective exclusive license may be granted, unless within sixty days from the date of this published Notice, SBCCOM receives written evidence and argument to establish that the grant of the license would not be consistent with the requirements of 35 U.S.C. 209 and 37 CFR 404.7.

Gregory D. Showalter,
Army Federal Register Liaison Officer.

[FR Doc. 00-1375 Filed 1-19-00; 8:45 am]

BILLING CODE 3710-08-M